DEPARTMENT OF ENERGY

Federal Energy Regulatory Commission

[Docket Nos. ER01-1663-000 and ER01-1663-001; Docket Nos. EL01-62-000 and EL01-62-001; Docket Nos. NJ01-3-000 and NJ01-3-001]

Sierra Southwest Cooperative Services, Inc., Southwest Transmission Cooperative, Inc., Notice of Issuance of Order

May 31, 2001.

On April 11, 2001, as amended on April 13, 2001, Sierra Southwest Cooperative Services, Inc. (Sierra) and Southwest Transmission Cooperative, Inc. filed a joint application related to the corporate restructuring of Arizona Electric Power Cooperative, Inc. Sierra seeks Commission authorization for a rate schedule for the wholesale sale of electric energy and capacity at market-based rates, and for a Resource Integration Agreement governing certain of its wholesale power sales. Sierra also sought certain blanket approvals and waivers of the Commission's regulations. In particular, Sierra requested that the Commission grant blanket approval under 18 CFR part 34 of all future issuances of securities and assumptions of liabilities by Sierra. On May 30, 2001, the Commission issued an Order Accepting For Filing Market-Based Rates, Granting Petition For Declaratory Order, Finding Reciprocity Tariff Acceptable, And Waiving Filing Fee (Order), in the above-docketed proceedings.

The Commission's May 30, 2001 Order granted the request for blanket approval under Part 34, subject to the conditions found in Ordering Paragraphs (G), (H), and (J).

(G) Within 30 days of the date of issuance of this order, any person desiring to be heard or to protest the Commission's blanket approval of issuances of securities or assumptions of liabilities by Sierra should file a motion to intervene or protest with the Federal Energy Regulatory Commission, 888 First Street, NE., Washington, DC 20426, in accordance with Rules 211 and 214 of the Commission's rules of Practice and Procedure, 18 CFR 385.211 and 385.214.

(H) Absent a request to be heard within the period set forth in Ordering Paragraph (G) above, Sierra is hereby authorized to issue securities and assume obligations or liabilities as guarantor, indorser, surety, or otherwise in respect of any security of another person; provided that such issue or assumption is for some lawful object within the corporate purposes of Sierra, compatible with the public interest, and reasonably necessary or appropriate for such purposes.

(J) The Commission reserves the right to modify this order to require a further showing that neither the public nor private interests will be adversely affected by continued Commission approval of Sierra's issuances of securities or assumptions of liabilities. * * *

Notice is hereby given that the deadline for filing motions to intervene or protests, as set forth above, is June 29, 2001.

Copies of the full text of the Order are available from the Commission's Public Reference Branch, 888 First Street, NE., Washington, DC 20426. The Order may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14212 Filed 6-5-01; 8:45 am]

BILLING CODE 6717-01-M